DEPARTMENT OF EDUCATION

Impact Aid

AGENCY: Office of Elementary and Secondary Education, Department of Education.

ACTION: Notice extending the application deadline date for Impact Aid fiscal year 2003 section 8002 and 8003 grants.

SUMMARY: The Secretary extends the deadline date for the submission of applications for Impact Aid fiscal year 2003 section 8002 and 8003 grants to April 12, 2002. Impact Aid regulations at 34 CFR 222.3 specify that the annual application deadline is January 31. Due to changes in the applications that were necessitated by legislative amendments in the fiscal year 2001 reauthorization of the program and the subsequent revision, production, and distribution of the application packages, the Secretary extends the deadline for the potential applicants under sections 8002 and 8003 for Impact Aid assistance for fiscal year 2003. Section 8003 applicants must still use a survey date for their student counts that is at least three days after the start of the 2001-2002 school year and before the extended deadline of April 12, 2002.

DATES: Effective Date: This notice extending the application deadline date to April 12, 2002, for Impact Aid fiscal year 2003 section 8002 and 8003 grants is effective March 13, 2002. The deadline date for the transmittal of comments on those applications by State Educational Agencies is April 26, 2002. The Secretary will also accept and approve for payment any otherwise approvable application that is received on or before the 60th calendar day after April 12, 2002, which is June 11, 2002, or the 60th day after the Secretary provides written notice to a local educational agency. However, any applicant meeting the conditions of the preceding sentence will have its payment reduced by 10 percent of the amount it would have received had its application been filed by April 12, 2002.

For Applications or Information Contact: Impact Aid Program, U.S. Department of Education, 400 Maryland Avenue SW, Washington, DC 20202-6244. Telephone: (202) 260-3858.

If you use a telecommunications device for the deaf (TDD) you may call the Federal Information Relay Service (FIRS) at 1-800-877-8339.

Individuals with disabilities may obtain this document in an alternative format (e.g., Braille, large print, audiotape or computer diskett) on request to the Impact Aid Program under For applications or information contact. Waiver of Rulemaking. Section 222.3 of CFR Title 34, which establishes the annual January 31 Impact Aid application deadline, is currently in effect. However, due to changes in the applications that were necessitated by legislative amendments in the 2001 reauthorization of the program and the related revision, production, and distribution of the application packages, the Secretary extends the deadline for the potential applicants under sections 8002 and 8003. Because this amendment makes a procedural change for this year only as a result of unique circumstances, proposed rulemaking is not required under 5 U.S.C. 553(b)(A). In addition, the Secretary has determined under 5 U.S.C. 553(b)(B) that proposed rulemaking on this one-time suspension of the regulatory deadline date is impracticable, unnecessary, and contrary to the public interest.

Electronic Access to this Document

You may view this document, as well as other Department of Education documents published in the Federal Register in text or Adobe Portable Document Format (PDF) on the Internet at the following site: www.ed.gov/legislation/FedRegister

To use PDF you must have Adobe Acrobat Reader, which is available free at this site. If you have questions about using PDF, call the U.S. Government Printing Office (GPO), toll-free, at 1-888-293-6498; or in the Washington DC, area at (202) 512-1530.

Note: The official version of this document is the document published in the Federal Register. Free Internet access to the official version of the Federal Register and the Code of Federal Regulations is available on GPO access at: www.access.gpo.gov/nara/index.html

(Catalog of Federal Domestic Assistance Number 84.041)

Program Authority: 20 U.S.C. 7705.

Dated: March 8, 2002.
Rod Paige,
Secretary of Education.

[FR Doc. 02-6074 Filed 3-12-02; 8:45 am]

BILLING CODE 4000-01-P